DEPARTMENT OF HOUSING AND URBAN DEVELOPMENT

[Docket No. FR-4801-C-02]

Notice of Funding Availability for HOPE VI Demolition Grants Fiscal Year 2002; Correction

AGENCY: Office of the Assistant Secretary for Public and Indian Housing, HUD.

ACTION: Notice of Funding Availability for HOPE VI Demolition Grants Fiscal Year 2002; Correction.

SUMMARY: On April 4, 2003, HUD published the Notice of Funding Availability (NOFA) for HOPE VI Demolition Grants Fiscal Year 2002. This document makes six technical corrections to the NOFA.

FOR FURTHER INFORMATION CONTACT: Caroline Clayton, Office of Public Housing Investments, Room 4130, Department of Housing and Urban Development, 451 Seventh Street, SW., Washington, DC 20410, (202) 401-8812, extension 5461 (this is not a toll-free number). Persons with hearing and/or speech challenges may access the above telephone number by TTY (text telephone) by calling the Federal Information Relay Service at 1-800-877-8339 (this is a toll-free number).

SUPPLEMENTARY INFORMATION: On April 4, 2003, HUD published the Notice of Funding Availability (NOFA) for HOPE VI Demolition Grants for Fiscal Year 2002 (68 FR 16672). Subsequent to publication, an error was discovered in the NOFA and appended Application within the description of standard relocation requirements. That error is corrected in this document. In addition, it was discovered that the NOFA incorrectly instructed that applicants should leave blank box 15 of HUD-Form 424; however, it is box 20 that should remain blank. Also, it was determined that the Application section of the NOFA contained an ambiguous requirement that applicants include a list of prior HUD public housing grant assistance used for physical revitalization of the proposed development. This notice removes that requirement. Finally, this notice amends the NOFA to make it consistent with Executive Order 13202, “Preservation of Open Competition and Government Neutrality Towards Government Contractors' Labor Relations on Federal and Federally Funded Construction Projects.”

Accordingly, the Notice of Funding Availability (NOFA) for HOPE VI Demolition Grants Fiscal Year 2002, published in the Federal Register on April 4, 2003, (68 FR 16672) is corrected as follows:

1. On page 16675, in the first column, paragraph (B)(1) is corrected to read as follows: “Relocation as a result of demolition approved by a section 18 demolition application is subject to section 18 of the 1937 Act.”

2. On page 16679, in the first column, insert a new section XV that reads as follows:

XV. Executive Order 13202. Preservation of Open Competition and Government Neutrality Towards Government Contractors' Labor Relations on Federal and Federally Funded Construction Projects.

Consistent with Executive Order 13202, “Preservation of Open Competition and Government Neutrality Towards Government Contractors' Labor Relations on Federal and Federally Funded Construction Projects,” as amended, it is a condition of receipt of assistance under this NOFA that neither you nor any subrecipient or program beneficiary receiving funds under an award granted under this NOFA, nor any construction manager acting on behalf of you or any such subrecipient or program beneficiary, may require bidders, offerors, contractors, or subcontractors to enter into or adhere to any agreement with any labor organization on any construction project funded in whole or in part by such award or on any related federally funded construction project; or prohibit bidders, offerors, contractors, or subcontractors from entering into or adhering to any such agreement on any such construction project; or otherwise discriminate against bidders, offerors, contractors, or subcontractors on any such construction project because they become or refuse to become or remain signatories or otherwise to adhere to any such agreements. Contractors and subcontractors are not prohibited from voluntarily entering into such agreements. A recipient or its construction manager may apply to HUD under section 5(c) of the Executive Order for an exemption from these requirements for a project where a construction contract on the project had been awarded as of February 17, 2001, and was subject to requirements that are prohibited under the Executive Order.

3. On page 16679, section “XV. Findings and Certifications” is redesignated as section “XVI. Findings and Certifications.”

4. On page 16683, in the paragraph numbered “3,” the third sentence is corrected to read as follows: “Do not fill in box 20, as you will report your funding elsewhere in the application.”

5. On page 16688, the paragraph numbered “6” is deleted.

6. On page 16690, the second sentence in the paragraph is corrected to read as follows: “In accordance with section IX of the NOFA, you must provide a certification that you have completed a HOPE VI Relocation Plan and that it conforms to the applicable requirements.”

Dated: May 6, 2003.
Michael M. Liu,
Assistant Secretary for Public and Indian Housing.

[FR Doc. 03-11763 Filed 5-9-03; 8:45 am]

BILLING CODE 4210-33-P